DEPARTMENT OF ENERGY

Federal Energy Regulatory Commission

[Docket Nos. EL05-73-000 and P-459-135]

Duncan's Point Lot Owners Association, Inc., and Duncan's Point Homeowners Association, Inc., and Nancy A. Brunson, Juanita Brackens, Helen Davis and Pearl Hankins, individually Complainants v. Union Electric Company, d/b/a Ameran UE, Respondents; Notice of Complaint

March 8, 2005.

Take notice that on March 4, 2005, Duncan's Point Lot Owners Association, Inc., et al., filed a formal complaint against Union Electric Company, d/b/a/ Ameran UE pursuant to Section 206 of the Federal Power Act, 16 U.S.C. 824e, and 18 CFR 385.206, alleging that numerous violations of statutes and Commission regulations in connection with Ameran UE's status as a hydroelectric licensee.

Duncan's Point Lot Owners Association, Inc., et al., certifies that copies of the complaint were served on Ameran UE, by mail on March 3, 2005.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on March 18, 2005.

Linda Mitry,
Deputy Secretary.

[FR Doc. E5-1081 Filed 3-14-05; 8:45 am]

BILLING CODE 6717-01-P